DEPARTMENT OF THE INTERIOR

Bureau of Land Management

[LLNVS00560 L58530000 EU0000 241A; N-85660, N-89137; 11-08807; MO#4500022283; TAS: 14X5232]

Notice of Realty Action: Competitive, Sealed-Bid Sale of Public Lands in Clark County, NV

AGENCY: Bureau of Land Management, Interior.

ACTION: Notice of Realty Action.

SUMMARY: Pursuant to the Southern Nevada Public Land Management Act of 1998 (SNPLMA), Public Law 105-263, as amended, the Bureau of Land Management (BLM) proposes to offer one parcel of public land totaling approximately 1.25 acres in the Las Vegas Valley by competitive, sealed-bid sale at not less than the appraised fair market value (FMV). The sale will be subject to the applicable provisions of Sections 203 and 209 of the Federal Land Policy and Management Act of 1976 (FLPMA) and applicable BLM land sale and mineral conveyance regulations. The proposed sale also includes one 5-acre parcel in Clark County that was offered at a previous sale, but received no bids. If not sold, any parcel described above in this Notice may be identified for sale at a later date without further legal notice.

DATES: Interested parties may submit written comments regarding the proposed sale of public land until October 31, 2011. The FMV for the parcel will be available by October 14, which is 60 days prior to the sale date.

Sealed bids may be mailed or delivered to the BLM Las Vegas Field Office beginning November 9, 2011, and must be received by the BLM no later than 4:30 p.m. Pacific Time, December 9, 2011. The bid opening for the proposed competitive sealed bid sale, if approved, will be conducted by the BLM on December 14, 2011, at 10 a.m. Pacific Time at the BLM Las Vegas Field Office at the address listed below.

ADDRESSES: Mail written comments to the BLM Las Vegas Field Office Manager, 4701 N. Torrey Pines Drive, Las Vegas, Nevada 89130, or by e-mail to: jill_pickren@blm.gov.

FOR FURTHER INFORMATION CONTACT: Jill Pickren at e-mail: jill_pickren@blm.gov or telephone: (702) 515-5194. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The parcel proposed for sale is bisected by the Blue Diamond Road (Highway 160) and is west of Grand Canyon Drive. The proposed parcel of public land is described as:

Mount Diablo Meridian

T. 22 S., R. 60 E.,

Sec. 19, N½NW¼NE¼SE¼NW¼.

The area described contains 1.25 acres, more or less, in Clark County.

The map delineating the proposed sale parcel is available for public review at the BLM Las Vegas Field Office at the address listed above.

The proposed sale parcel is analyzed in the Las Vegas Valley Disposal Boundary Environmental Impact Statement (EIS), and approved by Record of Decision on December 23, 2004. The proposed sale parcel, N-85660, is additionally analyzed in Environmental Assessment number DOI-BLM-NV-S010-2008-0479-EA, which tiers to the EIS. The Decision Record and Finding of No Significant Impact were signed on March 2, 2009. No comments were received.

The 5-acre parcel offered in a previous sale is identified as N-89137. This parcel will be reoffered for sale at the FMV of $1,056,000 under the terms and conditions of this Notice of Realty Action.

This proposed public sale is in conformance with the BLM Las Vegas Resource Management Plan (RMP), approved by Record of Decision on October 5, 1998. The BLM has determined that the proposed action conforms to the RMP decision LD-1 under the authority of FLPMA.

Sealed bids must be presented for the sale. Sealed-bid envelopes must be marked on the lower front left corner depicting the sale parcel serial number (N-85660) and the proposed sale date of December 14, 2011. Bids must be for not less than the federally approved FMV.

Each sealed bid shall be accompanied by a certified check, U.S. postal money order, bank draft, or cashier's check made payable in U.S. dollars to the “Department of the Interior—Bureau of Land Management” for not less than 20 percent of the amount bid. Personal or company checks will not be accepted. The sealed-bid envelope shall also include a completed and signed Certificate of Eligibility. Certificate of Eligibility forms are available at the BLM Las Vegas Field Office at the address listed above and on the BLM Web site at: http://www.blm.gov/nv/st/en/snplma/Land_Auctions.html. Pursuant to 43 CFR 2711.3-1(c), if two or more sealed-bid envelopes containing valid bids of the same amount are received, the determination of the highest bid shall be by supplemental biddings. Supplemental bidding may be oral or sealed bids as designated by the authorized officer. Following the end of the sale, all bid deposits will be returned to the unsuccessful bidders in person or by certified mail. If a bidder purchases the parcel and defaults on the parcel, the BLM may retain the bid deposit and cancel the sale. If the high bidder is unable to consummate the transaction for any other reasons, the second highest bid may be considered. The BLM will send the successful bidder(s) a letter with detailed information for full payment.

Federal law requires that bidders must be (1) United States citizens 18 years of age or older; (2) a corporation subject to the laws of any State or of the United States; (3) an entity including, but not limited to associations or partnerships capable of acquiring and owning real property, or interests therein, under the laws of the State of Nevada; or (4) a State, State instrumentality, or political subdivision authorized to hold real property. United States citizenship is evidenced by presenting a birth certificate, passport, or naturalization papers. Failure to submit the above requested documents to BLM within 30 days from receipt of the high-bidder letter shall result in cancellation of the sale and forfeiture of the bid deposit.

Within 30 days of the sale, the BLM will, in writing, either accept or reject all bids received. No contractual, or other rights against the United States, may accrue until the BLM officially accepts the offer to purchase and the full bid price is paid.

Terms and Conditions: Certain minerals for the parcel will be reserved in accordance with the BLM's approved Mineral Potential Report, dated January 22, 1999. Information pertaining to the reservation of minerals specific to the parcel is located in the case file and is available for public review at the BLM Las Vegas Field Office at the address listed.

The patent, when issued for sale parcel N-85660, will contain a mineral reservation to the United States for oil and gas and all saleable mineral deposits. An offer to purchase the parcel will constitute an application for mineral conveyance of the “no known value” mineral interests. In conjunction with the final payment, the applicant will be required to pay a $50 non-refundable filing fee for processing the conveyance of the “no known value” mineral interests, which will be sold simultaneously with the surface interests.

The parcel is subject to limitations prescribed by law and regulation, and prior to patent issuance, a holder of any right-of-way within the parcel may be given the opportunity to amend the right-of-way for conversion to a new term, including perpetuity, if applicable, or an easement. The BLM will notify valid existing right-of-way holders of their ability to convert their compliant rights-of-way to perpetual rights-of-way or easements. In accordance with Federal regulations at 43 CFR 2807.15, once notified, each valid holder may apply for the conversion of their current authorization.

The following numbered terms and conditions will appear on the conveyance document for this parcel:

1. Oil, gas, and all saleable mineral deposits on the lands in Clark County, if any, are reserved to the United States, in accordance with the Mineral Potential Report dated January 22, 1999. Permittees, licensees, and lessees of the United States retain the right to prospect for, mine, and remove such leasable and saleable minerals owned by the United States under applicable law and any regulations that the Secretary of the Interior may prescribe, together with all necessary access and exit rights;

2. A right-of-way is reserved for ditches and canals constructed by authority of the United States under the Act of August 30, 1890 (43 U.S.C. 945);

3. The parcel is subject to valid existing rights;

4. The parcel is subject to reservations for road, public utilities and flood control purposes, both existing and proposed, in accordance with the local governing entities' transportation plans;

5. By accepting this patent, the patentee agrees to indemnify, defend and hold the United States harmless from any costs, damages, claims, causes of action, penalties, fines, liabilities, and judgments of any kind or nature arising from the past, present, and future acts or omissions of the patentee, its employees, agents, contractors, or lessees, or any third-party, arising out of, or in connection with, the patentee's use, occupancy, or operations on the patented real property. This indemnification and hold harmless agreement includes, but is not limited to, acts and omissions of the patentee, its employees, agents, contractors, or lessees, or third party arising out of or in connection with the use and/or occupancy of the patented real property resulting in: (1) Violations of federal, State, and local laws and regulations applicable to the real property; (2) Judgments, claims or demands of any kind assessed against the United States; (3) Costs, expenses, damages of any kind incurred by the United States; (4) Other releases or threatened releases on, into or under land, property and other interests of the United States by solid or hazardous waste(s) and/or hazardous substances(s), as defined by Federal or State environmental laws; (5) Other activities by which solid or hazardous substances or wastes, as defined by Federal and State environmental laws were generated, released, stored, used or otherwise disposed of on the patented real property, and any cleanup response, remedial action, or other actions related in any manner to said solid or hazardous substances or wastes; or (6) natural resource damages as defined by Federal and State law. This covenant shall be construed as running with the patented real property, and may be enforced by the United States in a court of competent jurisdiction; and;

6. Pursuant to the requirements established by Section 120(h) of the Comprehensive Environmental Response, Compensation and Liability Act, 42 U.S.C. 9620(h) (CERCLA), as amended by the Superfund Amendments and Reauthorization Act of 1988, 100 Stat. 1670, notice is hereby given that the described lands have been examined and no evidence was found to indicate that any hazardous substances have been stored for 1 year or more, nor had any hazardous substances been disposed of or released on the subject property.

No warranty of any kind, express or implied, is given by the United States as to the title, whether or to what extent the land may be developed, its physical condition, future uses, or any other circumstance or condition. The conveyance of any parcel will not be on a contingency basis. However, to the extent required by law, the parcel is subject to the requirements of Section 120(h) of the CERCLA.

Unless other satisfactory arrangements are approved in advance by a BLM authorized officer, conveyance of title shall be through the use of escrow. Designation of the escrow agent shall be through mutual agreement between the BLM and the prospective patentee, and costs of escrow shall be borne by the prospective patentee. Requests for all escrow instructions must be received by the BLM Las Vegas Field Office prior to 30 days before the prospective patentee's scheduled closing date. There are no exceptions.

No contractual or other rights against the United States may accrue until the BLM officially accepts the offer to purchase, and the full bid price is submitted by the 180th day following the sale.

All name changes and supporting documentation must be received at the BLM Las Vegas Field Office 30 days from the date on the high-bidder letter by 4:30 p.m., Pacific Time. Name changes will not be accepted after that date. To submit a name change, the apparent high bidder must submit the name change in writing on the Certificate of Eligibility form to the BLM Las Vegas Field Office.

The remainder of the full bid price for the parcel must be paid prior to the expiration of the 180th day following the close of the sale. Payment must be submitted in the form of a certified check, U.S. postal money order, bank draft, or cashier's check made payable in U.S. dollars to the “Department of the Interior—Bureau of Land Management.” Personal or company checks will not be accepted.

Arrangements for electronic fund transfer to BLM for payment of the balance due must be made a minimum of 2 weeks prior to the payment date. Failure to pay the full bid price prior to the expiration of the 180th day will disqualify the apparent high bidder and cause the entire 20 percent bid deposit to be forfeited to the BLM. Forfeiture of the 20 percent bid deposit is in accordance with 43 CFR 2711.3-1(d). No exceptions will be made. The BLM cannot accept the remainder of the bid price after the 180th day of the sale date.

The BLM will not sign any documents related to 1031 Exchange transactions. The timing for completion of an exchange is the bidder's responsibility in accordance with Internal Revenue Service regulations. The BLM is not a party to any 1031 Exchange.

In accordance with 43 CFR 2711.3-1(f), the BLM may accept or reject any or all offers to purchase, or withdraw any parcel of land or interest therein from sale, if, in the opinion of a BLM authorized officer, consummation of the sale would be inconsistent with any law, or for other reasons.

The parcel, if not sold by competitive sealed bid sale, may be identified for sale at a later date without further legal notice.

On publication of this notice and until completion of the sale, the BLM is no longer accepting land use applications affecting the parcel identified for sale. However, land use applications may be considered after the sale if the parcel is not sold. The parcel may be subject to land use applications received prior to publication of this notice if processing the application would have no adverse effect on the marketability of title, or the FMV of the parcel. Encumbrances of record that may appear in the BLM public files for the parcel proposed for sale are available for review during business hours, 7:30 a.m. to 4:30 p.m., Pacific Time, Monday through Friday, at the Las Vegas Field Office, except during federally recognized holidays.

In order to determine the FMV, certain assumptions may have been made concerning the attributes and limitations of the lands and potential effects of local regulations and policies on potential future land uses. Through publication of this notice, the BLM advises that these assumptions may not be endorsed or approved by units of local government. It is the buyer's responsibility to be aware of all applicable Federal, State, and local government laws, regulations and policies that may affect the subject lands, including any required dedication of lands for public uses. It is also the buyer's responsibility to be aware of existing or prospective uses of nearby properties. When conveyed out of Federal ownership, the lands will be subject to any applicable laws, regulations, and policies of the applicable local government for proposed future uses. It will be the responsibility of the purchaser to be aware through due diligence of those laws, regulations, and policies, and to seek any required local approvals for future uses. Buyers should also make themselves aware of any Federal or State law or regulation that may impact the future use of the property. Any land lacking access from a public road or highway will be conveyed as such, and future access acquisition will be the responsibility of the buyer.

Information concerning the sale, appraisals, reservations, procedures and conditions, CERCLA, and other environmental documents are available for review at the BLM Las Vegas Field Office.

Only written comments will be considered properly filed.

Before including your address, phone number, e-mail address, or other personal identifying information in your comment you should be aware that your entire comment—including your personal identifying information—may be made publicly available at any time. While you can ask us in your comment to withhold your personal identifying information from public review, we cannot guarantee that we will be able to do so.

Any adverse comments regarding the proposed sale will be reviewed by the BLM Nevada State Director, who may sustain, vacate, or modify this realty action. In the absence of any valid adverse comments, this realty action will become the final determination of the Department of the Interior.

Authority: 43 CFR 2711.1-2.

Vanessa Hice,
Acting Assistant Field Manager, Division of Lands.

[FR Doc. 2011-23486 Filed 9-13-11; 8:45 am]

BILLING CODE 4310-HC-P